SMALL BUSINESS ADMINISTRATION

National Women's Business Council; Addendum to Quarterly Public Meeting

AGENCY: National Women's Business Council, Small Business Administration.

ACTION: Notice of open Public Meeting (Addendum).

SUMMARY: The SBA is issuing this notice to announce the location, date, time, and agenda for its public meeting of the National Women's Business Council. The meeting will be open to the public.

DATES: March 26, 2014 from 3:00 p.m. Eastern Time to 5:30 p.m. Eastern Time. This meeting will take place at 1776.

ADDRESSES: 1776 is located at 1133 15th St. NW., The Penthouse, Washington, DC 20005. Please contact Taylor Barnes at 202-205-6827 or Taylor.barnes@nwbc.gov to receive more information and conference call details.

SUPPLEMENTARY INFORMATION: Pursuant to section 10(a)(2) of the Federal Advisory Committee Act (5 U.S.C., Appendix 2), SBA announces the meeting of the National Women's Business Council. As previously announced, the NWBC will be holding their public meeting on March 26th from 12:00 p.m. to 2:00 p.m. at SBA Headquarters. The NWBC will also be meeting later in the day, from 3:00 p.m. to 5:30 p.m., at 1776 to discuss women in STEM fields.

FOR FURTHER INFORMATION CONTACT: The meeting is open to the public however advance notice of attendance is requested. Anyone wishing to attend must either email their interest to taylor.barnes@nwbc.gov or call at 202-205-6827 no later than March 19, 2014.

Those needing special accommodation in order to attend or participate in the meeting, please contact 202-205-6827 no later than March 19, 2014.

Dated: March 10, 2014.
Diana Doukas,
SBA Committee Management Officer.

[FR Doc. 2014-05696 Filed 3-13-14; 8:45 am]

BILLING CODE 8025-01-P